DEPARTMENT OF ENERGY

Federal Energy Regulatory Commission

[Docket No. CP99-284-000]

Koch Gateway Pipeline Company; Notice of Availability of the Environmental Assessment for the Proposed Index 1 Pipeline and Laterals Abandonment Project

January 27, 2000.

The staff of the Federal Energy Regulatory Commission (FERC or Commission) has prepared an environmental assessment (EA) on the abandonment of the natural gas pipeline facilities proposed by Koch Gateway Pipeline Company (Koch) in the above-referenced docket.

The EA was prepared to satisfy the requirements of the National Environmental Policy Act. The staff concludes that approval of the proposed project, with appropriate mitigating measures, would not constitute a major Federal action significantly affecting the quality of the human environment.

The EA assesses the potential environmental effects of the proposed abandonment of the pipelines and appurtenant facilities including:

• Abandon in place about 72.4 miles of 10-, 16-, 18-, and 20-inch-diameter Index 1 Pipeline in Kaufman, Dallas, and Tarrant Counties, Texas;

• Abandon in place the following lateral pipeline totaling about 29.2 miles in Dallas and Tarrant Counties, Texas:

• 7.3 miles of 12-inch-diameter Index 1-31 pipeline;

• 0.9 mile of 18-inch-diameter Index 1-37 pipeline;

• 5.6 miles of 20-inch-diameter Index 1-37 pipeline;

• 10.6 miles of 16-inch-diameter Index 4 pipeline;

• 4.7 miles of 20-inch-diameter Index 6 pipeline; and

• 0.1 mile of 4-inch-diameter Index 808 pipeline.

• Construct and operate 39 “pig” launching and receiving facilities to clean out the pipelines proposed for abandonment; and

• Abandon by removal appurtenant facilities consisting of 6 meter stations, 39 blow-off assemblies, 12 by-pass valves, 15 block valves, 8 tap valves, 40 segments of pipeline of various diameters totaling about 429 feet, about 1,690 feet of pipeline of various diameters at four waterbody crossings, 1,648 feet of exposed pipeline, 62 farm taps, 5 industrial taps, and certain other minor facilities.

Koch seeks authority to abandon these facilities due to rising operating and maintenance costs, the number of encroachments, and increasing number of requests to relocate portions of the pipeline.

The EA has been placed in the public files of the FERC. A limited number of copies of the EA are available for distribution and public inspection at: Federal Energy Regulatory Commission, Public Reference and Files Maintenance Branch, 888 First Street, N.E., Room 2A, Washington, DC 20426, (202) 208-1371.

Copies of the EA have been mailed to Federal, state and local agencies, public interest groups, interested individuals, newspapers, and parties to this proceeding.

Any person wishing to comment on the EA may do so. To ensure consideration prior to a Commission decision on the proposal, it is important that we receive your comments before the date specified below. Please carefully follow these instructions to ensure that your comments are received in time and properly recorded:

• Send two copies of your comments to: Secretary, Federal Energy Regulatory Commission, 888 First St., N.E., Room 1A, Washington, DC 20426;

• Label one copy of the comments for the attention of the Environmental Review and Compliance Branch, PR-11.1;

• Reference Docket No. CP99-284-000; and

• Mail your comments so that they will be received in Washington, DC on or before February 26, 2000.

Comments will be considered by the Commission but will not serve to make the commentor a party to the proceeding. Any person seeking to become a party to the proceeding must file a motion to intervene pursuant to Rule 214 of the Commission's Rules of Practice and Procedures (18 CFR 385.214).

Affected landowners and parties with environmental concerns may be granted intervenor status upon showing good cause by stating that they have a clear and direct interest in this proceeding which would not be adequately represented by any other parties. You don't need intervenor status to have your comments considered.

Additional information about the proposed project is available from Paul McKee in the Commission's Office of External Affairs, at (202) 208-1088 or on the FERC Internet website (www.ferc.fed.us) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary.

[FR Doc. 00-2187 Filed 2-1-00; 8:45 am]

BILLING CODE 6717-01-M